APPALACHIAN STATES LOW-LEVEL RADIOACTIVE WASTE COMMISSION

Annual Meeting

Time and Date: 9 a.m.-12 p.m. October 25, 2000.

Place: Harrisburg Hilton and Towers, One North Second Street, Harrisburg, PA 17101.

Status: Most of the meeting will be open to the public. If there is a need for an executive session (closed to the public), it will be held at about 9 a.m. to 9:30 a.m.

Matters To Be Considered: Portions Open to the Public: The primary purpose of this meeting is to (1) Review the independent auditors' report of Commission's financial statements for fiscal year 1999-2000; (2) Review the Commission's annual reports for fiscal years 1999-2000; (3) Consider a proposed budget for fiscal year 2001-2002; (4) Review and discuss the recent developments in South Carolina related to the Barnwell disposal facility; (5) Review information on LLRW generation within the compact; and (6) Elect the Commission's officers.

Portions Closed to the Public: Executive Session, if deemed necessary, will be held at about 9 a.m. to 9:30 a.m.

Contact Person for More Information: Richard R. Janati, Chairman Seif's Staff member on the Commission, at 717-787-2163.

Richard R. Janati,
Chairman's Staff Member on the Commission.

[FR Doc. 00-24663 Filed 9-25-00; 8:45 am]

BILLING CODE 0000-00-M